DEPARTMENT OF DEFENSE

Department of the Army

U.S. Army Corps of Engineers

DEPARTMENT OF THE INTERIOR

Bureau of Reclamation

Notice of Intent To Prepare a Supplemental Environmental Impact Statement (SEIS) for the Columbia River System Operations

AGENCY: U.S. Army Corps of Engineers, Department of the Army, DoD; Bureau of Reclamation, U.S. Department of the Interior.

ACTION: Notice of intent.

SUMMARY: In 2020, the U.S. Army Corps of Engineers (Corps), Bureau of Reclamation (Reclamation), and Bonneville Power Administration (Bonneville) issued the 2020 Columbia River System Operations Final Environmental Impact Statement (CRSO EIS; DOE/EIS-0529), which addressed the ongoing operations, maintenance, and configuration of fourteen Federal Columbia River System (CRS) multiple purpose dams and related facilities located throughout the Columbia River basin. The Corps and Reclamation (Co-Lead Agencies) intend to prepare a supplemental EIS to address environmental effects from proposed changes to the selected alternative in the CRSO EIS and new circumstances and information about the significance of adverse effects that arose or became available after completion of the CRSO EIS. Bonneville has not elected to serve as a co-lead agency for this SEIS and has instead expressed interest in participating as a cooperating agency.

DATES: The Co-Lead Agencies invite Federal and State agencies, Native American Tribes, local governments, and the public to submit scoping comments relevant to the supplemental National Environmental Policy Act (NEPA) process no later than March 20, 2025. Information will also be provided at public meetings. Information on the public meetings is provided under the SUPPLEMENTARY INFORMATION section of this Notice of Intent.

ADDRESSES: Written comments, requests to be placed on the project mailing list, and requests for information may be mailed by letter to U.S. Army Corps of Engineers Northwestern Division Attn: CRSO SEIS, P.O. Box 2870, Portland, OR 97208-2870; or by email to columbiariver@usace.army.mil. All comment letters will be available via the project website at https://www.nwd.usace.army.mil/CRSO/. All comments and materials received, including names and addresses, will become part of the administrative record, and may be released to the public. Interested parties should not submit confidential business or otherwise sensitive or protected information.

FOR FURTHER INFORMATION CONTACT: Tim Fleeger, Columbia River Basin Policy and Environmental Coordinator, Northwestern Division, U.S. Army Corps of Engineers 1 (800) 290-5033 or email columbiariver@usace.army.mil. Additional information can be found at the project website: https://www.nwd.usace.army.mil/CRSO/Final-EIS.

SUPPLEMENTARY INFORMATION:

1. Background: The fourteen Federal multiple purpose dams and related facilities of the Columbia River System (CRS) are operated as a coordinated system within the interior Columbia River basin in Idaho, Montana, Oregon, and Washington. The Corps was authorized by Congress to construct, operate, and maintain twelve of these projects for multiple purposes (project purposes vary by project), including flood risk management, power generation, navigation, fish and wildlife conservation, recreation, and municipal and industrial water supply: namely, Libby, Albeni Falls, Dworshak, Chief Joseph, Lower Granite, Little Goose, Lower Monumental, Ice Harbor, McNary, John Day, The Dalles, and Bonneville. Reclamation was authorized by Congress to construct, operate, and maintain two of these projects for purposes of flood risk management, power generation, navigation, and irrigation: Hungry Horse and Grand Coulee. Bonneville is responsible for marketing and transmitting power the dams generate. Together, the Corps, Reclamation, and Bonneville are responsible for managing the system for these various purposes.

In 2020, the Corps, Reclamation, and Bonneville completed the CRSO EIS and signed a Record of Decision (ROD) selecting their preferred alternative identified in the CRSO EIS. Multiple parties filed legal challenges to the CRSO EIS and ROD, as well as to the associated biological opinions the National Marine Fisheries Service (NMFS) and U.S. Fish and Wildlife Service (FWS) issued in conjunction with the CRSO EIS.

Since 2021, the litigation challenging the CRSO EIS ROD and biological opinions has been stayed or administratively terminated, allowing the U.S. government, including the Corps, Reclamation, Bonneville, FWS, and NMFS and other departments and agencies to engage in mediated discussions with the Confederated Tribes of the Colville Reservation, the Coeur d'Alene Tribe, and the Spokane Tribe of Indians as well as Oregon, Washington, the Confederated Tribes and Bands of the Yakama Nation, the Confederated Tribes of the Umatilla Indian Reservation, the Confederated Tribes of the Warm Springs Reservation of Oregon, the Nez Perce Tribe, local governments, stakeholder groups, and nongovernmental organizations.

In December 2023, the United States Government (USG) signed a Memorandum of Understanding (now called the Resilient Columbia Basin Agreement (RCBA)) with Oregon, Washington, the Confederated Tribes and Bands of the Yakama Nation, the Confederated Tribes of the Umatilla Indian Reservation, the Confederated Tribes of the Warm Springs Reservation of Oregon, the Nez Perce Tribe, and the National Wildlife Federation Plaintiffs. The RCBA provides for a stay of litigation on the CRSO EIS ROD and related biological opinions for up to 10 years and includes agreed upon CRS operations. The RCBA also includes USG commitments to carry out certain analyses related to regional energy needs, Tribal circumstances, water supply replacement, transportation infrastructure, and recreation and public access, as well as commitments on a series of actions to improve conditions for native fish species. As part of the RCBA, and consistent with Corps', Reclamation's, and Bonneville's ongoing responsibilities under NEPA, the USG committed to reviewing existing environmental compliance documents and initiating any supplemental or additional environmental compliance determined to be necessary in fall of 2024.

The Co-Lead Agencies are evaluating triggers for supplementation under NEPA. In determining the scope of supplemental compliance, the Co-Lead Agencies will evaluate new information and circumstances, including any: changes to operations, maintenance, and configuration of the fourteen projects that make up the Columbia River System; new species listed or proposed for listing under the Endangered Species Act (ESA) (e.g., Wolverine); certain USG Commitments associated with the RCBA; relevant reports, studies, or other information published since the CRSO EIS was completed (including, but not limited to, the Department of the Interior's report, Historic and Ongoing Impacts of Federal Dams on the Columbia River Basin Tribes, and other information sources referenced in Attachment 2 of the RCBA); and anticipated changes in Columbia River inflows to the United States from Canada and operational effects in the U.S. related to the modernization of the Columbia River Treaty.

With respect to the latter, the Columbia River's flow at the U.S.-Canada border is affected by how Canada operates storage reservoirs in its portion of the basin. Canada's reservoir operations are affected in part by how the Columbia River Treaty operations are managed for flood risk management, hydropower generation, and ecosystem purposes in coordination with the United States. The CRSO EIS applied 2016 Columbia River Treaty operations as the best-available information. Certain terms of the Columbia River Treaty regarding preplanned flood risk management changed on September 16, 2024, and the countries have been negotiating modernized provisions of the Treaty to address these changes, along with updates to hydropower coordination, the inclusion of ecosystem purposes, and increased Canadian flexibility. The existing Treaty's changes in flood risk management along with expected updates from the modernization process may lead to changed flows across the border from Canada that vary from the assumptions and effects contemplated in the 2020 CRSO EIS under certain hydrological conditions.

2. Purpose and Need for the Proposed Action: The ongoing action under evaluation in this supplemental NEPA process is the long-term coordinated operations, maintenance, and configuration of the Columbia River System. The purpose of this action is to operate the Columbia River System to meet multiple responsibilities including resource, legal, and institutional purposes of the action. The underlying need to which the Co-Lead Agencies are responding in this supplemental NEPA process is the need to evaluate the selected alternative in light of changes to the action and potentially substantial new circumstances and information that arose or became available after completion of the CRSO EIS ROD and are relevant to environmental effects. The Federal decision in this process is to determine whether to modify the selected alternative from the CRSO EIS based on potentially substantial changes to measures included in the selected alternative, or substantial new information or changed circumstances and conditions about the significance of adverse effects that bear on the analysis.

3. Description of Proposed Action and Alternatives: The CRSO EIS evaluated a range of alternatives developed to meet the Purpose and Need Statement and eight study objectives developed for the EIS. The eight objectives, in tandem with the Purpose and Need Statement, established the framework for evaluating the ability of an alternative to satisfy the Corps', Reclamation's, and Bonneville's numerous legal, institutional, and resource obligations. The agencies used an iterative process to develop a range of alternatives for the future physical configuration, operation, and maintenance of the 14 projects of the CRS. The alternatives were developed to achieve a reasonable balance of competing resource demands for the available water and for the multiple authorized purposes, including evaluating measures to avoid, offset, or minimize impacts to resources affected by managing the CRS in the context of new information and changed conditions in the Columbia River Basin since the System Operation Review EIS in 1997. During the preparation of the CRSO EIS, the agencies developed a reasonable range of four Multiple Objective Action Alternatives (MOs) suitable for analysis in addition to the No Action Alternative. Following analysis and identification of effects for the No Action Alternative and the four MO alternatives, the Corps, Reclamation, and Bonneville used these findings to develop a fifth action alternative, which was described as the agencies' Preferred Alternative in the CRSO Draft and Final EIS. This selected alternative was ultimately chosen in the CRSO EIS ROD (Selected Alternative). This supplemental NEPA process is focused on addressing potentially substantial changes to the Selected Alternative, reviewing potentially substantial new circumstances and information that arose or became available after completion of the CRSO EIS, and preparing a SEIS. The SEIS will evaluate potential benefits and impacts of changes made to the Selected Alternative including direct, indirect, and cumulative effects to the human and natural environments.

4. Summary of Potential Effects: The Corps, Reclamation, and Bonneville issued the CRSO EIS ROD in 2020. Since then, a variety of new circumstances and information about the significance of effects that bear on the NEPA analysis previously conducted have arisen. The Co-Lead Agencies will use this information to assess and update, as appropriate, the analyses presented in the CRSO EIS. The Co-Lead Agencies will analyze any substantial changes in effects relating to changes in the Proposed Action such as any changes to operations, maintenance, and configuration of the fourteen projects that make up the Columbia River System; new species listed or proposed for listing under the Endangered Species Act (ESA); anticipated changes in Columbia River inflows to the United States from Canada and operational effects in the U.S. related to the modernization of the Columbia River Treaty; and relevant reports, studies, or other information published since the CRSO EIS. This will include an assessment of existing effects analyses and additional effects analyses as necessary to ensure compliance with applicable environmental laws and regulations, including the ESA and the National Historic Preservation Act (NHPA). The Co-Lead Agencies will issue a decision following publication of the final SEIS and completion of consultation, if necessary, under the ESA.

At this early stage, it is unknown the full extent to which effects analyses results may differ from those presented in the CRSO EIS. Because changes and new information involve Columbia River System conditions, a broad range of resources may be affected. Accordingly, the full range of resources that were analyzed in the CRSO EIS will be assessed for potential effects due to proposed changes or changed conditions and circumstances. These resources include: river hydrology and hydraulics; water quality; aquatic habitat, invertebrates, and fish; vegetation, wetlands, wildlife, and floodplains; power generation and transmission; air quality and greenhouse gases; flood risk management; navigation and transportation; recreation; water supply; visual and noise resources; fisheries and passive use; cultural resources; Indian trust assets, tribal perspectives, and tribal interests; environmental justice; and implementation and system costs.

5. Anticipated Permits, Other Authorizations, and Other Directives: For reasons identified above, the Corps, Reclamation, and Bonneville have reinitiated ESA consultation with FWS and are evaluating whether reinitiation of ESA consultation with NMFS is necessary under section 7 of the ESA. During the pendency of the ESA consultation and NEPA processes, Corps, Reclamation, and Bonneville will operate the CRS consistent with the current biological opinions and the operations identified in the RCBA. Corps, Reclamation, and Bonneville also will work with NMFS and FWS to ensure compliance with the ESA, coordinate environmental reviews, and maintain protections afforded to ESA-listed species and critical habitat under existing environmental compliance documentation.

The Co-lead agencies (and Bonneville when appropriate) will comply with all applicable statutory and regulatory requirements in evaluating the Proposed Action, including but not limited to the ESA, Clean Water Act, Section 106 of the NHPA, and Executive Orders, including E.O. 12898 Federal Actions to Address Environmental Justice in Minority Populations and Low-Income Populations and E.O. 14096 on Revitalizing Our Nation's Commitment to Environmental Justice For All, and the recent Presidential Memorandum, Restoring Healthy and Abundant Salmon, Steelhead, and Other Native Fish Populations in the Columbia River Basin, 88 FR 67617 (October 2, 2023).

The Co-Lead Agencies wi.ll also ensure government-to-government consultation with Tribes that honors the U.S. Government's longstanding commitments to Tribal Nations.

6. Schedule for the Decision-Making Process. To the extent feasible, the Co-Lead Agencies will complete the SEIS in compliance with the deadlines and schedules set forth in 40 Code of Federal Regulations (CFR) 1501.10(b). The draft SEIS will be available for public review and comment. A 45-day public review period will be provided for interested parties and agencies to review and comment on this draft document. All interested parties are encouraged to respond to this Notice of Intent and provide a current address if they wish to be notified of the Draft SEIS circulation. The Co-Lead Agencies would issue a decision at the conclusion of the NEPA process, in accordance with 40 CFR 1506.10. Corps, Reclamation, and Bonneville would also determine how to proceed consistent with their Section 7 obligations under the ESA and any resulting biological opinions in accordance with 50 CFR 402.15.

7. Scoping Process/Public Involvement. The Co-Lead Agencies invite all affected Federal, State, and local agencies, affected Tribes, other interested parties, and the general public to participate in the NEPA process during development of the SEIS. Three (3) virtual public scoping meetings will be held the week of February 10, 2025. The specific dates, times, and meeting information will be published on the project website: https://www.nwd.usace.army.mil/CRSO/. Additional public meetings will be scheduled after release of the draft SEIS.

The Co-Lead Agencies are issuing this Notice of Intent to: (1) Advise other Federal and State agencies, Tribes, and the public of their plan to analyze effects related to system operations, maintenance and configuration; (2) obtain suggestions and information that may inform the scope of issues to evaluate in the SEIS; and (3) provide notice and request public input on potential effects on historic properties from system operations, maintenance and configuration due to potential modification of the undertaking in accordance with section 106 of the NHPA (36 CFR 800.2(d)(3) and 800.8(c)(5)). The Co-Lead agencies will also identify any cooperating and participating agencies that the Co-Lead agencies may require information from to facilitate their future decision after completion of the Notice of Intent scoping period.

William C. Hannan,
Brigadier General, US Army, Division Commander.
Jennifer Carrington,
Regional Director, Columbia-Pacific Northwest Region, Bureau of Reclamation.

[FR Doc. 2024-29936 Filed 12-17-24; 8:45 am]

BILLING CODE 3720-58-P